DEPARTMENT OF COMMERCE

National Telecommunications and Information Administration

Proposed Information Collection; Comment Request; State and Local Implementation Grant Program Application Documentation and Reporting Requirements

AGENCY: National Telecommunications and Information Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before April 15, 2013.

ADDRESSES: Direct all written comments to Jennifer Jessup, Departmental Paperwork Clearance Officer, Department of Commerce, Room 6616, 14th and Constitution Avenue NW, Washington, DC 20230 (or via the Internet at JJessup@doc.gov).

FOR FURTHER INFORMATION CONTACT: Requests for additional information or copies of the information collection instruments and instructions should be sent to Laura M. Pettus, Program Specialist, Office of Telecommunications and Information Applications, National Telecommunications and Information Administration, U.S. Department of Commerce, 1401 Constitution Avenue NW., Room 4878, Washington, DC 20230 (or via email at lpettus@ntia.doc.gov).

SUPPLEMENTARY INFORMATION:

I. Abstract

The Middle Class Tax Relief and Job Creation Act of 2012 (Act, Pub. L. 112-96, 126 Stat. 156 (2012).) (Act) was signed by the President on February 22, 2012. The Act meets a long-standing priority of the Administration, as well as a critical national infrastructure need, to create a single nationwide, interoperable public safety broadband network (PSBN) that will, for the first time, allow police officers, fire fighters, emergency medical service professionals, and other public safety officials to effectively communicate with each other across agencies and jurisdictions. The Act establishes the First Responder Network Authority (FirstNet) as an independent authority within the National Telecommunications and Information Administration (NTIA) and authorizes it to take all actions necessary to ensure the design, construction, and operation of a nationwide public safety broadband network (PSBN), based on a single, national network architecture.

FirstNet is responsible for, at a minimum, ensuring nationwide standards for the use of and access to the network; issuing open, transparent, and competitive requests for proposals (RFPs) to build, operate, and maintain the network; encouraging these RFPs to leverage, to the maximum extent economically desirable, existing commercial wireless infrastructure to speed deployment of the network; and overseeing contracts with non-federal entities to build, operate, and maintain the network.

The Act also charges NTIA with establishing the State and Local Grant Implementation Program (SLIGP) to assist State, regional, tribal, and local jurisdictions with identifying, planning, and implementing the most efficient and effective means to use and integrate the infrastructure, equipment, and other architecture associated with the nationwide PSBN to satisfy the wireless broadband and data services needs of their jurisdictions.

The Act directed NTIA, in consultation with FirstNet, to establish programmatic requirements for SLIGP by August 22, 2012. NTIA met the Act's directive by issuing a Notice that described the scope of allowable activities that SLIGP will fund, defined eligible costs, and discussed prioritizing grants for activities that ensure coverage in rural as well as urban areas. Because the appointment of the FirstNet Board occurred on August 20, 2012, NTIA had only just started to consult with the Board on the SLIGP requirements at the time it issued the Notice on August 21, 2012. As a result, NTIA did not announce procedures for the submission of grant applications in the August 21 Notice nor did it begin accepting grant applications at that time. Instead, NTIA announced that, subject to the activities of FirstNet, it intended to release a Federal Funding Opportunity (FFO) and open the application window during the first quarter of calendar year 2013.

Moreover, the Act's framework contemplates that FirstNet will closely coordinate its activities with State, regional, tribal, and local governments and imposes a statutory requirement that FirstNet consult with these entities as it takes all actions necessary to build, deploy, and operate the nationwide PSBN. Specifically, the Act requires FirstNet to consult with State, regional, tribal, and local governments about the distribution and expenditure of any amounts required to carry out its responsibilities, including (i) The construction of a core network and any radio access network build-out; (ii) placement of towers; (iii) coverage areas of the network; (iv) adequacy of hardware, security, reliability, and resiliency requirements; (v) assignment of priority to local users and selection of entities seeking network access; and (vi) training needs of local users.

Additionally, the Act specifies that these required consultations are to occur between FirstNet and the single point of contact that the State is required to designate in its application for grant funds under SLIGP. Thus, progress in meeting FirstNet's responsibilities under the Act, including its required consultations, is inextricably linked to the establishment of SLIGP. FirstNet must rely on NTIA to establish SLIGP as the principal means to facilitate its required consultations. At the same time, without funding assistance from SLIGP, the States will lack the resources to consult effectively with FirstNet and provide it with information needed for it to proceed with the design and construction of a nationwide PSBN in an effective and timely manner, as required by the Act.

In order to meet these objectives, DOC/NTIA requested an emergency review by the Office of Management and Budget (OMB). This request was approved on January 7, 2013; approval ends on July 31, 2013. The publication of this notice allows NTIA to begin the process to extend the approval for the standard three years.

II. Method of Collection

Electronically via grants.gov, and paper format.

III. Data

OMB Control Number: 0660-0038.

Form Number(s): None.

Type of Review: Regular submission (extension of a currently approved information collection).

Affected Public: State, regional, local, and tribal government organizations.

Estimated Number of Respondents: 56.

Estimated Time Per Response: Application, 10 hours; Quarterly report, 4 hours.

Estimated Total Annual Burden Hours: 1,456.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 6, 2013.
Gwellnar Banks,
Management Analyst, Office of the Chief Information Officer.

[FR Doc. 2013-03091 Filed 2-11-13; 8:45 am]

BILLING CODE 3510-06-P